DEPARTMENT OF COMMERCE

International Trade Administration

[C-533-864, C-475-833, C-570-027, C-580-879, C-583-857]

Countervailing Duty Investigations of Certain Corrosion-Resistant Steel Products From India, Italy, the People's Republic of China, the Republic of Korea, and Taiwan: Alignment of Final Countervailing Duty Determinations With Final Antidumping Duty Determinations

AGENCY: Enforcement and Compliance, International Trade Administration, Department of Commerce.

FOR FURTHER INFORMATION CONTACT: Matt Renkey at (202) 482-2312 (India); Robert Palmer at (202) 482-9068 (Italy); Myrna Lobo at (202) 482-2371 (the Republic of Korea); Emily Halle at (202) 482-0176 (the People's Republic of China); Kristen Johnson at (202) 482-4793 (Taiwan), AD/CVD Operations, Enforcement and Compliance, International Trade Administration, U.S. Department of Commerce, 14th Street and Constitution Avenue NW., Washington, DC 20230.

SUPPLEMENTARY INFORMATION:

Background

On June 23, 2015, the Department of Commerce (the “Department”) initiated the countervailing duty investigations of certain corrosion-resistant steel products (“corrosion-resistant steel”) from India, Italy, the People's Republic of China (“the PRC”), the Republic of Korea (“Korea”), and Taiwan.¹ Simultaneously the Department initiated antidumping duty (“AD”) investigations of corrosion-resistant steel from India, Italy, the PRC, Korea, and Taiwan.² The countervailing duty (“CVD”) investigations and the AD investigations cover the same class or kind of merchandise.

¹ See Certain Corrosion-Resistant Steel Products from the People's Republic of China, India, Italy, the Republic of Korea, and Taiwan: Initiation of Countervailing Duty Investigations, 80 FR 37223 (June 30, 2015) (“Initiation Notice”).

² See Certain Corrosion-Resistant Steel Products from the People's Republic of China, India, Italy, the Republic of Korea, and Taiwan: Initiation of Less-Than-Fair-Value Investigations, 80 FR 37228 (June 30, 2015).

Alignment With AD Final Determination

On November 10, 2015, in accordance with section 705(a)(1) of the Tariff Act of 1930, as amended (“the Act”), United States Steel Corporation; Nucor Corporation; Steel Dynamics, Inc.; ArcelorMittal USA, LLC; AK Steel Corp.; and, California Steel Industries (collectively, “Petitioners”) requested an alignment of the final CVD determinations with the final AD determinations of corrosion-resistant steel from India, Italy, the PRC, Korea, and Taiwan. Therefore, in accordance with section 705(a)(1) of the Act and 19 CFR 351.210(b)(4)(i), we are aligning the final CVD determinations with the final AD determinations. Consequently, the final CVD determinations will be issued on the same date as the final AD determinations, which are currently scheduled to be issued no later than March 5, 2016, unless postponed.³

³ We note that the current deadline for the final AD determination is March 5, 2015, which is a Saturday. Pursuant to Department practice, the signature date will be the next business day, which is Monday, March 7, 2016. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: November 13, 2015.
Paul Piquado,
Assistant Secretary for Enforcement and Compliance.

[FR Doc. 2015-29721 Filed 11-19-15; 8:45 am]

BILLING CODE 3510-DS-P